DEPARTMENT OF DEFENSE

Department of the Army

Programmatic Environmental Impact Statement for the Training Mission and Mission Support Activities at Fort Campbell, KY

AGENCY: Department of the Army, DoD.

ACTION: Notice of Intent.

SUMMARY: The Department of the Army announces its intent to prepare a Programmatic Environmental Impact Statement (PEIS) to evaluate the impacts of current and future training and mission-related activities at Fort Campbell, Kentucky (portions of Fort Campbell are also located in Tennessee). The PEIS is being completed to meet the requirements of the National Environmental Policy Act (NEPA) to evaluate the environmental impacts of proposed alternatives for implementing the training and mission support activities at Fort Campbell, Kentucky. The PEIS will assess range construction, associated training and land management activities, and adjustments to military airspace to support Fort Campbell's training requirements. This PEIS analyzes portions of the Range Complex Master Plan which has been developed to address training and training facility requirements over the next 10 years.

ADDRESSES: Please send written comments to Mr. Gene Zirkle, NEPA/Wildlife Program Manager, Environmental Division, Building 2159 13th Street, Fort Campbell, KY 42223; or by email to gene.a.zirkle.civ@mail.mil.

FOR FURTHER INFORMATION CONTACT: Mr. Gene Zirkle at (270) 798-9854, during normal working business hours Monday through Friday, 7:30 a.m. to 4:00 p.m. C.S.T.; or by email to gene.a.zirkle.civ@mail.mil.

SUPPLEMENTARY INFORMATION: Fort Campbell must provide modernized live-fire ranges, quality maneuver training areas, the airspace necessary for the training of Army aviation units and unmanned aerial systems (UAS), and modern training facilities. The requirement to provide quality training support to Soldiers and units will continue into the future as mission requirements, military preparedness, and Soldier/unit training requirements change. Fort Campbell must be prepared to meet future training requirements by providing modern training facilities and ranges.

As technology changes, new weapons, weapons systems, and unmanned systems are incorporated into tactical units. These technological advances dictate changes to how the Army trains, the space needed for maneuver training to include airspace, and new ranges to accommodate the live-fire training on new weapon systems. In addition, the installation must support training of other military services as well as training of various federal organizations.

Fort Campbell's ranges and training lands require routine maintenance, modernization, and in some cases construction of new facilities to continue to provide Soldiers with a high quality training environment. These types of activities will continue into the future as mission requirements, military preparedness, and Soldier training requirements change.

A range of reasonable alternatives will be analyzed in the PEIS. Five alternatives have been identified to meet the requirements of the proposed action. Alternative 1 would provide for site-specific range construction projects needed to support the live-fire training on the installation. Alternative 2 would create adaptable use zones (AUZ) to facilitate future range modernization and construction. Alternative 3 would implement routine range and training land actions to maintain and sustain the installation range and training land complex in an environmentally sound manner. This includes the formalization of environmental stewardship best management practices (BMPs). Alternative 4 would restructure and expand the current controlled airspace to accommodate the Army aviation units, UAS, and joint training with the U.S. Air Force. Alternative 5 would implement the above 4 alternatives as one consolidated alternative.

The PEIS will also consider a No Action alternative. Under the No Action alternative, none of the action alternatives would be implemented. Range use and training land management would continue under the status quo. Other reasonable alternatives identified during the scoping process will be considered for evaluation in the PEIS.

The proposed action would allow future development of Fort Campbell's training infrastructure that could have significant impacts to airspace, natural and cultural resources, water resources, and other environmental resources. Mitigation measures will also be identified for adverse impacts.

Scoping and public comments: Federally recognized Indian Tribes, federal, state, and local agencies, organizations, and the public are invited to be involved in the scoping process for the preparation of this PEIS by participating in meetings and/or submitting written comments. The scoping process will help identify possible alternatives, potential environmental impacts, and key issues of concern to be analyzed in the PEIS. Written comments will be accepted within 30 days of publication of the Notice of Intent in the Federal Register. Public meetings will be held in Clarksville, Tennessee and Hopkinsville, Kentucky. Notification of the times and locations for the scoping meetings will be published locally.

Brenda S. Bowen,
Army Federal Register Liaison Officer.

[FR Doc. 2013-01002 Filed 1-17-13; 8:45 am]

BILLING CODE 3710-08-P